DEPARTMENT OF ENERGY

Transition of DOE-ID Public Reading Room

AGENCY: Idaho Operations Office, Department of Energy.

ACTION: Notice.

SUMMARY: Pursuant to 5 U.S.C. 552(a) of the Freedom of Information Act and in accordance with Title 10 of the Code of Federal Regulations, Section 1004.3(a)-(c), notice is hereby given that the Department of Energy Idaho Operations Office Public Reading Room has been relocated to the INL Research Library at 1776 Science Center Drive, Idaho Falls, ID 83401, beginning September 1, 2012. Access to documents will also be electronically accessible through the World Wide Web.

For direction in accessing documents electronically through the World Wide Web, please refer to the Idaho Operations FOIA Web site: http://www.id.doe.gov/foia/FrequentlyReqDoc.htm. Many current and legacy documents are also commercially available through the U.S. Department of Commerce National Technical Information Service www.ntis.gov.

DATES: Effective September 1, 2012.

ADDRESSES: INL Research Library, 1776 Science Center Drive, Idaho Falls, ID 83401.

FOR FURTHER INFORMATION CONTACT: Clayton Ogilvie at (208) 526-5190.

Clayton Ogilvie,
Freedom of Information Act Officer, Idaho Operations Office.

[FR Doc. 2012-22318 Filed 9-10-12; 8:45 am]

BILLING CODE 6450-01-P